DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: This action was issued on April 29, 2025. See SUPPLEMENTARY INFORMATION for relevant dates.

FOR FURTHER INFORMATION CONTACT: OFAC: Associate Director for Global Targeting, 202-622-2420; Assistant Director for Licensing, 202-622-2480; Assistant Director for Sanctions Compliance, 202-622-2490 or https://ofac.treasury.gov/contact-ofac.

SUPPLEMENTARY INFORMATION:

Electronic Availability

The SDN List and additional information concerning OFAC sanctions programs are available on OFAC's website: https://ofac.treasury.gov.

Notice of OFAC Action

On April 29, 2025, OFAC determined that the property and interests in property subject to U.S. jurisdiction of the following persons are blocked under the relevant sanctions authority listed below.

Individuals

1. ASGARI, Mohammad, Iran; DOB 03 Jul 1979; nationality Iran; Additional Sanctions Information—Subject to Secondary Sanctions; Gender Male; National ID No. 1289040249 (Iran) (individual) [NPWMD] [IFSR] (Linked To: ISLAMIC REVOLUTIONARY GUARD CORPS).

Designated pursuant to section 1(a)(iii) of Executive Order 13382 of June 28, 2005, “Blocking Property of Weapons of Mass Destruction Proliferators and Their Supporters,” 70 FR 38567, 3 CFR, 2005 Comp., p. 170 (E.O. 13382), for having provided, or attempted to provide, financial, material, technological or other support for, or goods or services in support of, ISLAMIC REVOLUTIONARY GUARD CORPS, a person whose property and interests in property are blocked pursuant to E.O. 13382.

2. MODARRES FATHI, Forough (a.k.a. MODARES FATHI, Forough; a.k.a. MODARRES FATHI, Forugh), Isfahan, Iran; DOB 29 Aug 1950; nationality Iran; Additional Sanctions Information—Subject to Secondary Sanctions; Gender Female; Passport I62009245 (Iran) expires 29 Feb 2028; National ID No. 1286411351 (Iran) (individual) [NPWMD] [IFSR] (Linked To: SAMAN TEJARAT BARMAN TRADING COMPANY).

Designated pursuant to section 1(a)(iii) of E.O. 13382 for having provided, or attempted to provide, financial, material, technological or other support for, or goods or services in support of, SAMAN TEJARAT BARMAN TRADING COMPANY, a person whose property and interests in property are blocked pursuant to E.O. 13382.

3. POUR KAZEMI, Abbas (a.k.a. PORKAZEMI, Abbas; a.k.a. PURKAZEMI, Abbas), Isfahan, Iran; DOB 06 Nov 1952; nationality Iran; Additional Sanctions Information—Subject to Secondary Sanctions; Gender Male; National ID No. 1285448774 (Iran) (individual) [NPWMD] [IFSR] (Linked To: SAMAN TEJARAT BARMAN TRADING COMPANY).

Designated pursuant to section 1(a)(iii) of E.O. 13382 for having provided, or attempted to provide, financial, material, technological or other support for, or goods or services in support of, SAMAN TEJARAT BARMAN TRADING COMPANY, a person whose property and interests in property are blocked pursuant to E.O. 13382.

4. ZARGAR BAB ALDASHTI, Abed (a.k.a. ZARGAR BAB ALDASHTI, Abid; a.k.a. ZARGARBABODDASHTI, Abed), Isfahan, Iran; DOB 05 Jul 1978; nationality Iran; Additional Sanctions Information—Subject to Secondary Sanctions; Gender Male; National ID No. 0069233888 (Iran) (individual) [NPWMD] [IFSR] (Linked To: SAMAN TEJARAT BARMAN TRADING COMPANY).

Designated pursuant to section 1(a)(iv) of E.O. 13382 for acting or purporting to act for or on behalf of, directly or indirectly, SAMAN TEJARAT BARMAN TRADING COMPANY, a person whose property and interests in property are blocked pursuant to E.O. 13382.

5. ZARGAR BAB ALDASHTI, Hamed (a.k.a. ZARGARBABODDASHTI, Hamed; a.k.a. ZARGARBABOLDASHTI, Hamed), Isfahan, Iran; Dubai, United Arab Emirates; DOB 27 Apr 1977; nationality Iran; alt. nationality United Arab Emirates; Additional Sanctions Information—Subject to Secondary Sanctions; Gender Male; Passport U97775345 (United Arab Emirates) expires 11 Sep 2029; National ID No. 0069074771 (Iran) (individual) [NPWMD] [IFSR] (Linked To: SAMAN TEJARAT BARMAN TRADING COMPANY).

Designated pursuant to section 1(a)(iv) of E.O. 13382 for acting or purporting to act for or on behalf of, directly or indirectly, SAMAN TEJARAT BARMAN TRADING COMPANY, a person whose property and interests in property are blocked pursuant to E.O. 13382.

6. ZARGAR BAB ALDASHTI, Zahra (a.k.a. ZARGAR BABODDASHTI, Zahra), Isfahan, Iran; DOB 28 Jul 2003; nationality Iran; Additional Sanctions Information—Subject to Secondary Sanctions; Gender Female; National ID No. 1274057711 (Iran) (individual) [NPWMD] [IFSR] (Linked To: SAMAN TEJARAT BARMAN TRADING COMPANY).

Designated pursuant to section 1(a)(iv) of E.O. 13382 for acting or purporting to act for or on behalf of, directly or indirectly, SAMAN TEJARAT BARMAN TRADING COMPANY, a person whose property and interests in property are blocked pursuant to E.O. 13382.

Entities

1. CHINA CHLORATE TECH CO LIMITED, Chuanxing Town, Yanling County, Zhuzhou, Hunan, China; Hong Kong, China; Additional Sanctions Information—Subject to Secondary Sanctions; Organization Established Date 17 May 2022; Company Number 3153395 (Hong Kong); Business Registration Number 74050495 (Hong Kong) [NPWMD] [IFSR] (Linked To: YANLING CHUANXING CHEMICAL PLANT GENERAL PARTNERSHIP).

Designated pursuant to section 1(a)(iii) of E.O. 13382 for having provided, or attempted to provide, financial, material, technological or other support for, or goods or services in support of, YANLING CHUANXING CHEMICAL PLANT GENERAL PARTNERSHIP, a person whose property and interests in property are blocked pursuant to E.O. 13382.

2. DONGYING WEIAIEN CHEMICAL CO LTD, Shandong 257300, China; Additional Sanctions Information—Subject to Secondary Sanctions; Organization Established Date 13 Oct 2014; Registration Number 370523200027679 (China); Unified Social Credit Code (USCC) 913705233129553678 (China) [NPWMD] [IFSR] (Linked To: SAMAN TEJARAT BARMAN TRADING COMPANY).

Designated pursuant to section 1(a)(iii) of E.O. 13382 for having provided, or attempted to provide, financial, material, technological or other support for, or goods or services in support of, SAMAN TEJARAT BARMAN TRADING COMPANY, a person whose property and interests in property are blocked pursuant to E.O. 13382.

3. SAMAN TEJARAT BARMAN TRADING COMPANY, Number 226, South Unit, Floor 1, Abdul Razzaq Street, Mikhak Alley, Naqsh-e Jahan, Central District, Isfahan County, Isfahan City, Isfahan Province 8147846492, Iran; Additional Sanctions Information—Subject to Secondary Sanctions; Organization Established Date 08 Apr 2018; National ID No. 14007515283 (Iran); Registration Number 60254 (Iran) [NPWMD] [IFSR] (Linked To: ISLAMIC REVOLUTIONARY GUARD CORPS).

Designated pursuant to section 1(a)(iii) of E.O. 13382 for having provided, or attempted to provide, financial, material, technological or other support for, or goods or services in support of, ISLAMIC REVOLUTIONARY GUARD CORPS, a person whose property and interests in property are blocked pursuant to E.O. 13382.

4. SHENZHEN AMOR LOGISTICS CO LTD (a.k.a. SHENZHEN AIMI INTERNATIONAL LOGISTICS CO LTD), Unit 806, Huafeng Building, No. 6006 Shennan Avenue, Futian District, Shenzhen, Guangdong, China; website amorlogis.com; Additional Sanctions Information—Subject to Secondary Sanctions; Organization Established Date 20 Jun 2017; Registration Number 440300201508973 (China); Unified Social Credit Code (USCC) 91440300MA5EKR079F (China) [NPWMD] [IFSR] (Linked To: ISLAMIC REVOLUTIONARY GUARD CORPS).

Designated pursuant to section 1(a)(iii) of E.O. 13382 for having provided, or attempted to provide, financial, material, technological or other support for, or goods or services in support of, ISLAMIC REVOLUTIONARY GUARD CORPS, a person whose property and interests in property are blocked pursuant to E.O. 13382.

5. YANLING CHUANXING CHEMICAL PLANT GENERAL PARTNERSHIP (a.k.a. YANLING COUNTY CHUANXING CHEMICAL PLANT GENERAL PARTNERSHIP; a.k.a. YANLING COUNTY SHIP SHAPED CHEMICAL PLANT GENERAL PARTNERSHIP), Chuanxing Town, Yanling County, Zhuzhou, Hunan, China; Additional Sanctions Information—Subject to Secondary Sanctions; Organization Established Date 10 Jun 2008; Registration Number 430225600023395 (China); Unified Social Credit Code (USCC) 91430225L26191645X (China) [NPWMD] [IFSR] (Linked To: SHENZHEN AMOR LOGISTICS CO LTD).

Designated pursuant to section 1(a)(iii) of E.O. 13382 for having provided, or attempted to provide, financial, material, technological or other support for, or goods or services in support of, SHENZHEN AMOR LOGISTICS CO LTD, a person whose property and interests in property are blocked pursuant to E.O. 13382.

6. YANLING LINGFENG CHLORATE CO LTD (a.k.a. YANLING COUNTY LINGFENG CHEMICAL TRADING CO LTD), 1 Chuangye Road, Entrepreneurship Park, Xiayang Town, Yanling County, Zhuzhou, Hunan, China; Additional Sanctions Information—Subject to Secondary Sanctions; Organization Established Date 15 Dec 2021; Unified Social Credit Code (USCC) 91430225MA7DEW2U3K (China) [NPWMD] [IFSR] (Linked To: CHINA CHLORATE TECH CO LIMITED).

Designated pursuant to section 1(a)(iii) of E.O. 13382 for having provided, or attempted to provide, financial, material, technological or other support for, or goods or services in support of, CHINA CHLORATE TECH CO LIMITED, a person whose property and interests in property are blocked pursuant to E.O. 13382.

Lisa M. Palluconi,
Acting Director, Office of Foreign Assets Control.

[FR Doc. 2025-08227 Filed 5-9-25; 8:45 am]

BILLING CODE 4810-AL-P